DEPARTMENT OF THE INTERIOR

Bureau of Land Management

[AA-6671-G, AA-6671-H, AA-6671-C2; AK 964-1410-HY-P]

Alaska Native Claims Selection

AGENCY: Bureau of Land Management, Interior.

ACTION: Correction to notice of decision approving lands for conveyance.

SUMMARY: As required by 43 CFR 2650.7(d), notice of the decision approving lands for conveyance to Bay View Incorporated, pursuant to the Alaska Native Claims Settlement Act, was published in the Federal Register on February 11, 2008 (Volume 73, Number 28). The notice contained an error in the land description. The correct description is as follows:

Seward Meridian, Alaska

T. 50 S., R. 66 W.,

Secs. 16, 20, and 21;

Secs. 22, 26, and 27.

Containing approximately 1,443 acres.

T. 50 S., R. 67 W.,

Secs. 21, 27, and 28;

Secs. 34, 35, and 36.

Containing approximately 1,615 acres.

T. 50 S., R. 68 W.,

Sec. 23.

Containing approximately 1 acre.

Aggregating approximately 3,059 acres.

DATES: The time limits for filing an appeal are:

1. Any party claiming a property interest which is adversely affected by the decision shall have until March 12, 2008, to file an appeal.

2. Parties receiving service of the decision by certified mail shall have 30 days from the date of receipt to file an appeal.

Parties who do not file an appeal in accordance with the requirements of 43 CFR part 4, Subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Michael Bilancione,
Land Transfer Resolution Specialist, Land Transfer Adjudication I.

[FR Doc. E8-3319 Filed 2-21-08; 8:45 am]

BILLING CODE 4310-$$-P